DEPARTMENT OF ENERGY

Federal Energy Regulatory Commission

[Docket No. RP00-279-000]

High Island Offshore System, L.L.C.; Notice of Tariff Filing

May 16, 2000.

Take notice that on May 10, 2000, High Island Offshore System, L.L.C. (HIOS), tendered for filing as part of its FERC Gas Tariff, Third Revised Volume No. 1, the revised tariff sheets listed in Appendix A to the filing. HIOS proposes that the foregoing tariff sheets be made effective on June 1, 2000.

HIOS states this filing is made to reflect ministerial tariff changes resulting from the assumption of operating duties by the El Paso Energy Partners Operating Company (EPNOC). HIOS further states that the instant filing specifically modifies the company's address, telephone numbers and personnel titles and designations from its currently effective tariff to conform with the changes due to the assumption of operating duties by EPNOC. HIOS further states that the changes effected by this filing are purely ministerial.

Any person desiring to be heard or to protest said filing should file a motion to intervene or a protest with the Federal Energy Regulatory Commission, 888 First Street N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us.online/rims.htm (call 202-208-2222 for assistance).

David P. Boergers,
Secretary.

[FR Doc. 00-12720 Filed 5-19-00; 8:45 am]

BILLING CODE 6717-01-M